DEPARTMENT OF AGRICULTURE

Forest Service

Oregon Coast Provincial Advisory Committee

AGENCY: Forest Service, USDA.

ACTION: Notice of Meeting.

SUMMARY: The Oregon Coast Province Advisory Committee will meet at Siuslaw National Forest Headquarters, Siuslaw River Room. The agenda includes: Future of Coast PAC and Meeting Schedule, Travel Management Planning, Spotted Owl Recovery Plan, Western Oregon Plan Revision and Public Comment.

DATES: The meeting will be held January 22, 2009, beginning at 9 a.m.

ADDRESSES: The meeting will be held at 4077 SW Research Way, Corvallis, Oregon 97333.

FOR FURTHER INFORMATION CONTACT: Joni Quarnstrom, Public Affairs Specialist, Siuslaw National Forest, 541-750-7075, or write to Siuslaw National Forest Supervisor, 4077 SW Research Way, Corvallis, OR 97339.

SUPPLEMENTARY INFORMATION: The meeting is open to the public. Council Discussion is limited to Forest Service/BLM staff and Council Members. Lunch will be on your own. A public input session will be at 3 p.m. for fifteen minutes. The meeting is expected to adjourn around 3:15 p.m.

Dated: January 13, 2009.
Barnie T. Gyant,
Forest Supervisor.

[FR Doc. E9-1045 Filed 1-16-09; 8:45 am]

BILLING CODE 3410-11-M